DEPARTMENT OF HEALTH AND HUMAN SERVICES

Centers for Disease Control and Prevention

[30Day-13-0841]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Management Information System for Comprehensive Cancer Control Programs—Revision (OMB No. 0920-0841, exp. 1/31/2013)—National Center for Chronic Disease Prevention and Health Promotion (NCCDPHP), Centers for Disease Control and Prevention (CDC).

Background and Brief Description

Through the National Comprehensive Cancer Control Program (NCCCP), CDC currently provides cooperative agreement funding and technical assistance to 65 entities: all 50 states, the District of Columbia, seven tribes/tribal organizations, and seven territories/U.S. Pacific Island jurisdictions. Since January 2010, NCCCP awardees have submitted progress and activity information to CDC twice per year using an electronic information system (“Management Information System for Comprehensive Cancer Control Programs,” OMB No. 0920-0841, exp. 1/31/2013). The program director for each awardee is responsible for overseeing activities and submitting the required reports to CDC.

New cooperative agreements were awarded to all NCCCP programs in 2012 (“Cancer Prevention and Control Program for State, Territorial and Tribal Organizations,” Funding Opportunity Announcement (FOA) DP12-1205). The new cooperative agreements place increased emphasis on policy and environmental approaches to cancer prevention and control.

CDC seeks OMB approval to continue using MIS-based reporting for the NCCCP awardees. Minor changes to the existing core cancer prevention and control data elements will be implemented to reflect the FOA's new performance requirements.

Thirteen of the 65 NCCCP awardees received additional funding for related but distinct cooperative agreements (“Demonstrating the Capacity of Comprehensive Cancer Control Programs to Implement Policy and Environmental Cancer Control Interventions,” FOA DP10-1017). The demonstration program is aimed at accelerating the development of policy and environmental approaches to cancer control for awardees that are poised to move forward rapidly. Demonstration program activities will be aligned with the existing comprehensive cancer control program in a manner that minimizes duplication, capitalizes on existing activities, and fosters rapid implementation. Similar semi-annual progress reports are required to monitor activities conducted under the demonstration program. A state- or territory-based policy task force coordinator will be responsible for submitting the required reports to CDC.

CDC proposes to use the same MIS-based methodology for all reporting. Due to the distinct objectives, resources, and activities associated with each cooperative agreement, separate reports will be required from the program director and the task force coordinator.

CDC's Revision request utilizes a modified method of estimating respondent burden which distinguishes between (i) the initial burden of populating the MIS, and (ii) routine MIS maintenance and report generation. In the initial OMB approval period (2010-2013), respondent burden was based on a long-term average burden per response.

For the 65 state- and territory-based cancer prevention and control programs, CDC estimates the initial burden of populating the MIS at four hours per response. Some of the information entered into the MIS during the previous cooperative agreement period will be downloaded to minimize respondent burden in the new funding period, but awardees will be responsible for verifying this information and entering new objectives. After completing these steps, the estimated burden for ongoing system maintenance and semi-annual reporting is three hours per response.

For the 13 states and territories that are also participating in the demonstration program, the initial burden of populating the MIS is estimated to be six hours per response. Awardees will be responsible for entering information about the new objectives, staff, and other resources for demonstration program activities. Thereafter, the estimated burden for ongoing system maintenance and semi-annual reporting is estimated at three hours per response.

OMB approval is requested for three years. Information will be reported electronically twice per year. CDC will use the reports to identify training and technical assistance needs, monitor compliance with cooperative agreement requirements, evaluate progress made in achieving program-specific goals, and obtain information needed to respond to inquiries. There are no costs to respondents other than their time. The total estimated annualized burden hours are 586.

Estimated Annualized Burden Hours
Type of respondents | Form name | Number of respondents | Number of responses per respondent | Burden per response (in hr)
Program Director for State- or Territory-Based Cancer Prevention and Control Program | Data Elements for All CPC Programs: Initial MIS Population | 22 | 1 | 4
| Data Elements for All CPC Programs: Semi-annual Reporting | 65 | 2 | 3
State- or Territory-Based Policy Task Force Coordinator | Data Elements for CPC Demonstration Program: Initial MIS Population | 5 | 1 | 6
| Data Elements for CPC Demonstration Program: Semi-annual Reporting | 13 | 2 | 3

Dated: January 17, 2013.
Ron A. Otten,
Director, Office of Scientific Integrity (OSI), Office of the Associate Director for Science (OADS), Office of the Director, Centers for Disease Control and Prevention.

[FR Doc. 2013-01448 Filed 1-24-13; 8:45 am]

BILLING CODE 4163-18-P